DEPARTMENT OF COMMERCE

National Oceanic and Atmospheric Administration

ENVIRONMENTAL PROTECTION AGENCY

Coastal Nonpoint Pollution Control Program: Proposal To Find That Louisiana Has Satisfied All Conditions of Approval Placed on Its Coastal Nonpoint Pollution Control Program

AGENCY: National Oceanic and Atmospheric Administration, U.S. Department of Commerce, and U.S. Environmental Protection Agency.

ACTION: Notice of proposed finding; request for comments.

SUMMARY: The National Oceanic and Atmospheric Administration (NOAA) and the U.S. Environmental Protection Agency (EPA) (hereafter, “the agencies”) invite public comment on the agencies' proposed finding that Louisiana has satisfied all conditions the agencies established as part of their 1998 approval of the State's coastal nonpoint pollution control program (coastal nonpoint program). The Coastal Zone Act Reauthorization Amendments (CZARA) direct states and territories with coastal zone management programs previously approved under Section 306 of the Coastal Zone Management Act to develop and implement coastal nonpoint programs, which must be submitted to the Federal agencies for approval. Prior to making such a finding, NOAA and the EPA invite public input on the Federal agencies' rationale for this proposed finding.

DATES: Individuals or organizations wishing to submit comments on the proposed findings document should do so by February 28, 2022.

ADDRESSES: Comments may be submitted by:

• Electronic Submission: Submit all electronic public comments via the Federal eRulemaking Portal. Go to www.regulations.gov, enter NOAA-NOS-2020-0100 in the Search box, click the “Comment” icon, complete the required fields, and enter or attach your comments.

• Mail: Submit written comments to Joelle Gore, Chief, Stewardship Division (N/OCM6), Office for Coastal Management, NOS, NOAA, 1305 East-West Highway, Silver Spring, Maryland 20910; phone (240) 533-0813; ATTN: Louisiana Coastal Nonpoint Program.

Instructions: All comments received are a part of the public record and will generally be posted for public viewing on www.regulations.gov without change. All personally identifiable information (for example, name, address, etc.), confidential business information, or otherwise sensitive information submitted voluntarily by the commenter will be publicly accessible. NOAA and EPA will accept anonymous comments (enter “N/A” in the required fields if you wish to remain anonymous). Multimedia submissions (audio, video, etc.) must be accompanied by a written comment. The written comment is considered the official comment and should include discussion of all points you wish to make. The agencies will generally not consider comments or comment contents located outside of the primary submission (i.e., on the web, cloud, or other file sharing system).

FOR FURTHER INFORMATION CONTACT: Copies of the proposed findings document may be found on www.regulations.gov (search NOAA-NOS-2020-0100) and NOAA's Coastal Nonpoint Pollution Control Program website at https://coast.noaa.gov/czm/pollutioncontrol/. Additional background information on the State's program may be obtained upon request from: Allison Castellan, Stewardship Division (N/OCM6), Office for Coastal Management, NOS, NOAA, 1305 East-West Highway, Silver Spring, Maryland 20910, phone (240) 533-0799, email: allison.castellan@noaa.gov; or Patty Taylor, U.S. EPA Region 6, EPA Region 6 Main Office, 1201 Elm Street, Suite 500, Dallas, Texas 75270, phone: (214) 665-6403, email: taylor.patricia-a@epa.gov.

SUPPLEMENTARY INFORMATION: Section 6217(a) of the Coastal Zone Act Reauthorization Amendments (CZARA), 16 U.S.C. Section 1455b(a), requires that each state (or territory) with a coastal zone management program previously approved under Section 306 of the Coastal Zone Management Act must prepare and submit to the agencies a coastal nonpoint pollution control program for approval. Because Louisiana administers a federally approved coastal zone management program, Louisiana submitted its program updates to the agencies for approval in 1997. The agencies provided public notice of and invited public comment on their proposal to approve, subject to specific conditions, the Louisiana program (62 FR 38520). The agencies approved the program by letter dated June 30, 1998, subject to the conditions specified at that time (63 FR 37094). The agencies now propose to find, and invite public comment on the proposed findings, that Louisiana has fully satisfied the conditions associated with the earlier approval.

The proposed findings document for Louisiana's program is available at www.regulations.gov (search for NOAA-NOS-2020-0100) and information on the Coastal Nonpoint Program in general is available on the NOAA website at https://coast.noaa.gov/czm/pollutioncontrol/.

Nicole R. LeBoeuf,
Assistant Administrator for Ocean Services, Environmental Protection Agency.
Radhika Fox,
Assistant Administrator, Office of Water, National Oceanic and Atmospheric Administration.

[FR Doc. 2022-01586 Filed 1-26-22; 8:45 am]

BILLING CODE 3510-08-P